ENVIRONMENTAL PROTECTION AGENCY

[FRL-7007-6]

Agency Information Collection Activities Under OMB Review; Recordkeeping Requirements for Producers of Pesticides Under Section 8 of the Federal Insecticide, Fungicide, and Rodenticide Act as Amended (FIFRA)

AGENCY: Environmental Protection Agency (EPA).

ACTION: Notice.

SUMMARY: In compliance with the Paperwork Reduction Act (44 U.S.C. 3507 (a)(1)(D)), this notice announces that the Information Collection Request (ICR) for recordkeeping requirements for producers of pesticides under section 8 of the Federal Insecticide, Fungicide, and Rodenticide Act as amended (FIFRA) as described below has been forwarded to the Office of Management and Budget (OMB) for review and comment. The ICR describes the nature of the information collection and its expected burden and cost; where appropriate, it includes the actual data collection instrument, i.e., forms.

DATES: Comments must be submitted on or before August 6, 2001.

FOR FURTHER INFORMATION OR A COPY CALL: Sandy Farmer, 202-260-2740, and refer to EPA ICR No. 0143.07

SUPPLEMENTARY INFORMATION: Title: Recordkeeping Requirements for Producers of Pesticides under section 8 of the Federal Insecticide, Fungicide, and Rodenticide Act as amended (FIFRA); (OMB Control No. 2070-0028; EPA ICR No. 0143.07). This is a request for an extension of a currently approved collection.

Abstract: Producers of pesticides must maintain certain records with respect to their operations and make such records available for inspection and copying as specified in section 8 of the Federal Insecticide, Fungicide, and Rodenticide Act (FIFRA) and in regulations at 40 CFR part 169. This information collection is mandatory under FIFRA section 8. It is used by the Agency to determine compliance with the Act. The information is used by EPA Regional pesticide enforcement and compliance staffs, OECA, and the Office of Pesticide Programs (OPP) within the Office of Prevention, Pesticides and Toxic Substances (OPPTS), as well as the U.S. Department of Agriculture (USDA), the Food and Drug Administration (FDA), other Federal agencies, States under Cooperative Enforcement Agreements, and the public. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on February 13, 2001 (66 FR 10019), and no comments were received.

Burden Statement: The annual public reporting and recordkeeping burden for this collection of information is estimated to be an average of 120 minutes. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Pesticide Producers.

Estimated Number of Respondents: 12,336.

Frequency of Response: 1.

Estimated Total Annual Hour Burden: 24,672 hours.

Estimated Total Annualized Non-Labor Cost Burden: $0.

Send comments on the Agency's need for this information, the accuracy of the provided burden estimates, and any suggested methods for minimizing respondent burden, including through the use of automated collection techniques to the following addresses. Please refer to EPA ICR No. 0143.07 and OMB Control No. 2070-0028 in any correspondence.

Ms. Sandy Farmer, U.S. Environmental Protection Agency, OEI Collection Strategies Division (2822), 1200 Pennsylvania Avenue, NW, Washington, DC 20460;

and

Office of Information and Regulatory Affairs, Office of Management and Budget, Attention: Desk Officer for EPA, 725 17th Street, NW, Washington, DC 20503.

Dated: June 25, 2001.
Oscar Morales,
Director, Collection Strategies Division.

[FR Doc. 01-16943 Filed 7-5-01; 8:45 am]

BILLING CODE 6560-50-P